DEPARTMENT OF TRANSPORTATION

Federal Aviation Administration

14 CFR Part 39

[Docket No. 96-NM-179-AD]

RIN 2120-AA64

Airworthiness Directives; Airbus Model A300 B2 and B4; A300 B4-600, B4-600R, and F4-600R (Collectively Called A300-600); A310; A319; A320; A321; A330; and A340 Series Airplanes

AGENCY: Federal Aviation Administration, DOT.

ACTION: Supplemental notice of proposed rulemaking; reopening of comment period.

SUMMARY: This document revises an earlier proposed airworthiness directive (AD), applicable to all Airbus Model A300 B2 and B4; A300 B4-600, B4-600R, and F4-600R (collectively called A300-600); A310; and certain Airbus Model A319; A320; A321; A330; and A340 series airplanes. That proposal would have required repetitive visual inspections of the striker and guide valve of the passenger door actuators and certain emergency door actuators for corrosion, and corrective action, if necessary. That proposal was prompted by issuance of mandatory continuing airworthiness information by a foreign civil airworthiness authority. This new action revises the proposed rule by adding a requirement to modify the striker mechanism of the emergency and passenger door actuators, which would terminate the repetitive inspections. The actions specified by this new proposed AD are intended to prevent corrosion of the emergency actuator mechanism, which could cause failure of the emergency actuator striker mechanism on the passenger or emergency doors, and lead to difficulty in opening the passenger or emergency doors during an emergency evacuation.

DATES: Comments must be received by June 11, 2002.

ADDRESSES: Submit comments in triplicate to the Federal Aviation Administration (FAA), Transport Airplane Directorate, ANM-114, Attention: Rules Docket No. 96-NM-179-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 96-NM-179-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, FAA, Transport Airplane Directorate, International Branch, ANM-116, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 96-NM-179-AD.” The postcard will be date stamped and returned to the commenter.

Availability of NPRMs

Any person may obtain a copy of this NPRM by submitting a request to the FAA, Transport Airplane Directorate, ANM-114, Attention: Rules Docket No. 96-NM-179-AD, 1601 Lind Avenue, SW., Renton, Washington 98055-4056.

Discussion

A proposal to amend part 39 of the Federal Aviation Regulations (14 CFR part 39) to add an airworthiness directive (AD), applicable to all Airbus Model A300, A300-600, and A310 series airplanes; and certain Airbus Model A319, A320, A321, A330, and A340 series airplanes; was published as a notice of proposed rulemaking (NPRM) in the Federal Register on March 27, 1998 (63 FR 14857). That NPRM would have required repetitive visual inspections of the striker and guide valve of the passenger door actuators and certain emergency door actuators for corrosion, and corrective action, if necessary. That NPRM was prompted by issuance of mandatory continuing airworthiness information by a foreign civil airworthiness authority. Such conditions, if not detected and corrected, could result in failure of the emergency actuator striker mechanism on the passenger or emergency doors, and lead to difficulty in opening the passenger or emergency doors during an emergency evacuation.

Actions Since Issuance of Previous Proposal

Since the issuance of that NPRM, a production and retrofit modification has been developed for all models affected by the unsafe condition in the NPRM. Therefore, the applicability in this supplemental NPRM has been changed to exclude airplanes that have accomplished this modification.

New Service Information

Airbus has issued new service bulletins that provide procedures for modification of the striker mechanism of the passenger and emergency door actuators, which would eliminate the need for the repetitive inspections specified in the NPRM. Additionally, certain service bulletins referenced in the NPRM for doing the repetitive inspections and corrective action have been revised and are included in this supplemental NPRM as additional acceptable sources of service information for doing those actions. These revisions contain only minor procedural changes.

Airbus has issued Service Bulletins A300-52-0173, Revision 01 (for Model A300 B2 and B4 series airplanes), A300-52-6061, Revision 01 (for Model A300 B4-600, B4-600R, and F4-600R series airplanes) (collectively called A300-600 series airplanes), and A310-52-2065, Revision 01 (for Model A310 series airplanes), all dated September 7, 2000; A330-52-3048, Revision 01 (for Model A330 series airplanes), and A340-52-4059, Revision 01 (for Model A340 series airplanes), both dated December 2, 1998; and A320-52-1094, Revision 02, dated April 7, 1999 (for Model A319, A320, and A321 series airplanes). The service bulletins describe procedures for modification of the striker mechanism of the passenger and emergency door actuators. The modification includes replacement of the existing copper diaphragm with a corrosion-resistant aluminum diaphragm and re-identification of the actuators. The service bulletins also describe procedures for a visual inspection and adjustment/test of the forward, mid, and aft dampers and the emergency operation cylinders, if necessary, after doing the replacement.

Revised Service Information

Airbus has revised Service Bulletins A300-52-0168, Revision 02, (for Model A300 B2 and B4 series airplanes), A300-52-6052, Revision 02 (for Model A300-600 series airplanes), and A310-52-2058, Revision 02 (for Model A310 series airplanes), all dated October 25, 1999. The service bulletins describe procedures for visually inspecting the striker and guide valve of the passenger door actuators for corrosion, cleaning and reinstalling the emergency actuator striker mechanism, and replacing the emergency actuator striker mechanism with a serviceable part.

French Airworthiness Directives

The DGAC classified the service information described previously as mandatory and issued French airworthiness directives 1998-482-122(B) R1, dated April 21, 1999; 1999-410-294(B) R1, dated November 17, 1999; and 98-507-085(B), and 98-508-106(B), both dated December 16, 1998; in order to assure the continued airworthiness of these airplanes in France.

Comments

Interested persons have been afforded an opportunity to participate in the making of this amendment. Due consideration has been given to the comments received.

Maintenance Planning Document (MPD)

One commenter asks that the FAA give credit for inspections done per the procedures in the MPD. The commenter states that the NPRM limits accomplishment of the tasks to the procedures outlined in the Airbus All Operators Telex (AOT) 52-12, Revision 1, dated May 9, 1996, which was referenced in the NPRM as the appropriate source of service information for the accomplishment of the inspections and corrective action for Model A319, A320, and A321 series airplanes. The commenter notes that the procedure in the AOT was added to the Airbus A320 Airplane Maintenance Manual in 1997, and became part of the approved Airbus MPD for the A320s. The commenter adds that the MPD task number is 521000-13-1, and it specifies a repetitive inspection interval of 36 months, which is the same inspection interval specified in the NPRM. The commenter asks that the NPRM reference the MPD and adds that airplanes that have already been inspected per the procedures in the MPD should be exempt from the initial 500-flight-hour inspection.

The FAA agrees with the commenter and will add a note to this supplemental NPRM as follows: “Inspections and corrective action accomplished prior to the effective date of this AD per Airbus A320 MPD, task number 521000-13-1, are considered acceptable for compliance with paragraphs (a) and (b) of this AD.” Subsequent notes have been renumbered accordingly.

Applicability/Terminating Action

Two commenters question the effectivity in the NPRM and note that the NPRM does not include terminating action for the repetitive inspections.

One commenter states that the part numbers for the units specified in the NPRM are interchangeable with earlier units having the same part numbers, as defined in the Airbus A319/A320 Illustrated Parts Catalog. The commenter notes that there is the possibility that affected units could be installed on airplanes that, according to the NPRM, operators would not have to do the proposed inspections. The commenter asks that the effectivity specified in the NPRM be changed to include all A319 and A320 series airplanes with an exemption for door bottle assembly part numbers at or beyond Modification 26015. The commenter adds that Airbus Service Bulletin A320-52-1094, dated March 11, 1997, provides a terminating action for the repetitive inspections, and recommends that it be included in the NPRM.

The second commenter notes similar concerns and adds that operators who do the inspections in the NPRM and subsequently do Airbus Modification 26015 per Airbus Service Bulletin A320-52-1094 and Ratier-Figeac Service Bulletin FE174-52-3, dated December 16, 1996, are not allowed to stop doing the repetitive inspections in the NPRM.

Per the first commenter's request for an exemption for door bottle assembly part numbers at or beyond Modification 26015, we have added a new paragraph (a) to this supplemental NPRM to clarify that airplanes on which the applicable modifications have been done are exempt from the requirements specified in this supplemental NPRM. We have also changed the applicability specified in the NPRM (as the modifications were moved to paragraph (a) of the supplemental NPRM), to specify all Airbus Model A300-600; A310; A319; A320; A321; A330; and A340 series airplanes. In regard to the statement that part numbers for the units specified in the NPRM are interchangeable with earlier units having the same part numbers, that is addressed in paragraph (e), “Spares,” of this supplemental NPRM.

In response to both commenters’ recommendation to add terminating action, the FAA has changed this supplemental NPRM to require accomplishment of terminating action per the revised service information. This terminating action addresses both of the commenters' concerns.

Change in Model Designations

Since the issuance of the NPRM, the FAA has changed the manner in which it identifies the airplane models commonly referred to as “Airbus Model A300 and A300-600 series airplanes” to reflect the model designation specified on the type certificate data sheet. This supplemental NPRM has been revised to reflect the appropriate model designations for those airplanes.

Additionally, since issuance of the NPRM, Airbus Model A330 series airplanes have been added to the U.S. registry. This change is reflected in the Cost Impact section of this supplemental NPRM.

Definition of Inspection

The FAA has clarified the proposed inspection requirement contained in the NPRM. Whereas the NPRM specified a visual inspection, the FAA has revised this supplemental NPRM to clarify that its intent is to require a detailed inspection. Additionally, a note has been added to the supplemental NPRM to define that inspection. Subsequent notes have been renumbered accordingly.

Conclusion

Since these changes expand the scope of the original NPRM, the FAA has determined that it is necessary to reopen the comment period to provide additional opportunity for public comment.

Cost Impact

The FAA estimates that 127 Model A300 B2 and B4 and A300-600 series airplanes of U.S. registry would be affected by this proposed AD.

For these airplanes, it would take approximately 9 work hours per airplane to accomplish the proposed inspections, at an average labor rate of $60 per work hour. Based on these figures, the cost impact of the proposed inspections on U.S. operators is estimated to be $68,580, or $540 per airplane, per inspection cycle.

It would take approximately 60 work hours per airplane to accomplish the proposed modification, at an average labor rate of $60 per work hour. Parts cost per airplane would be minimal. Based on these figures, the cost impact of the proposed modification on U.S. operators is estimated to be $457,200, or $3,600 per airplane.

The FAA estimates that 47 Model A310 series airplanes of U.S. registry would be affected by this proposed AD, that it would take approximately 6 work hours per airplane to accomplish the proposed inspections, and that the average labor rate is $60 per work hour. Based on these figures, the cost impact of the proposed inspections on U.S. operators is estimated to be $16,920, or $360 per airplane, per inspection cycle.

For these airplanes, it would take approximately 20 work hours per airplane to accomplish the proposed modification, at an average labor rate of $60 per work hour. Parts cost per airplane would be minimal. Based on these figures, the cost impact of the proposed modification on U.S. operators is estimated to be $56,400, or $1,200 per airplane.

The FAA estimates that 887 Model A319, A320, and A330 series airplanes of U.S. registry would be affected by this proposed AD, that it would take approximately 4 work hours per airplane to accomplish the proposed inspection, and that the average labor rate is $60 per work hour. Based on these figures, the cost impact of the proposed AD on U.S. operators of these airplanes is estimated to be $212,880, or $240 per airplane, per inspection cycle.

For these airplanes, it would take approximately 80 work hours per airplane to accomplish the proposed modification, at an average labor rate of $60 per work hour. Parts cost per airplane would be minimal. Based on these figures, the cost impact of the proposed modification on U.S. operators is estimated to be $4,257,600, or $4,800 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

There are currently no affected Model A321 or A340 series airplanes on the U.S. Register. All of these airplanes included in the applicability of this proposed rule currently are operated by non-U.S. operators under foreign registry; therefore, they are not directly affected by this AD action. However, the FAA considers it necessary to include these airplanes in the applicability of this proposed rule in order to ensure that the unsafe condition is addressed in the event that any of the subject airplanes are imported and placed on the U.S. Register in the future.

Should an affected Model A321 series airplane be imported and placed on the U.S. Register in the future, it would take approximately 8 work hours per airplane to accomplish the proposed inspections. Based on an average labor rate of $60 per work hour, the cost impact of the proposed inspections would be $480 per airplane, per inspection cycle.

It would take approximately 20 work hours per airplane to accomplish the proposed modification on a Model A321 series airplane. Parts cost per airplane would be minimal. Based on an average labor rate of $60 per work hour, the cost impact of the modification would be $1,200 per airplane.

Should an affected Model A340 series airplane be imported and placed on the U.S. Register in the future, it would take approximately 32 work hours per airplane to accomplish the proposed inspections. Based on an average labor rate of $60 per work hour, the cost impact of the proposed inspections would be $1,920 per airplane, per inspection cycle.

It would take approximately 80 work hours per airplane to accomplish the proposed modification on a Model A340 series airplane. Parts cost per airplane would be minimal. Based on an average labor rate of $60 per work hour, the cost impact of the modification would be $4,800 per airplane.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 96-NM-179-AD.

Applicability: All Model A300 B2 and B4; A300 B4-600, B4-600R, and F4-600R (collectively called A300-600); A310; A319; A320; A321; A330; and A340 series airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To prevent corrosion of the emergency actuator mechanism, which could cause failure of the emergency actuator striker mechanism on the passenger or emergency doors, and lead to difficulty in opening the passenger or emergency doors during an emergency evacuation, accomplish the following:

Repetitive Inspections

(a) Within 500 flight hours after the effective date of this AD, or within 36 months after the airplane's date of manufacture, whichever occurs later: Determine if Airbus Modification(s) 45090, 45155, 45197, 45904, 45905, 26015, 26211, 11549, or 12024, as applicable, has been done. If the applicable modification(s) has been done, no further action is required by this AD. If the applicable modification(s) has not been done, before further flight, do the inspections required by paragraph (b) of this AD.

(b) Perform the inspections required by paragraphs (b)(1) and/or (b)(2) of this AD, as applicable, in accordance with Airbus Service Bulletin A300-52-0168, Revision 02 (for Model A300 B2 and B4 series airplanes), A300-52-6052, Revision 02 (for Model A300-600 series airplanes), or A310-52-2058, Revision 02 (for Model A310 series airplanes), all dated October 25, 1999; A330-52-3038, Revision 01, dated December 2, 1996 (for Model A330 series airplanes); A340-52-4048, Revision 03, dated June 10, 1997 (for Model A340 series airplanes); or Airbus All Operator Telex (AOT) 52-12, Revision 1, dated May 9, 1996 (for Model A319, A320, and A321 series airplanes); as applicable. Repeat the inspections thereafter at intervals not to exceed 3 years:

(1) For Model A321, A330, and A340 series airplanes: Do a detailed inspection of the striker and guide valve of the emergency door actuators for corrosion.

(2) For all airplanes: Do a detailed inspection of the striker and guide valve of the passenger door actuators for corrosion.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 3: Additional service information regarding the required inspections on Airbus Model A300 B2 and B4, A300-600, and A310 series airplanes is provided in RATIER-FIGEAC Service Bulletin 701-5000-52-9, Revision 1, dated October 10, 1996.

Corrective Action

(c) If any corrosion is found during any inspection required by paragraph (b) of this AD, before further flight, accomplish either paragraph (b)(1) or (b)(2) of this AD, in accordance with Airbus Service Bulletin A300-52-0168, Revision 02 (for Model A300 B2 and B4 series airplanes), A300-52-6052, Revision 02 (for Model A300-600 series airplanes), or A310-52-2058, Revision 02 (for Model A310 series airplanes), all dated October 25, 1999; A330-52-3038, Revision 01, dated December 2, 1996 (for Model A330 series airplanes); A340-52-4048, Revision 03, dated June 10, 1997 (for Model A340 series airplanes); or Airbus AOT 52-12, Revision 1, dated May 9, 1996 (for Model A319, A320, and A321 series airplanes); as applicable.

(1) Clean the corroded areas of the emergency actuator striker mechanism to restore proper function, and re-install the mechanism; and, within 18 months after the corrosion is found, replace the mechanism with a serviceable part; or

(2) Replace the emergency actuator striker mechanism with a serviceable part.

Note 4: Inspections and corrective action done before the effective date of this AD in accordance with Airbus Service Bulletin A300-52-0168, dated December 4, 1996, or Revision 01, dated March 26, 1998; A300-52-6052, dated December 4, 1996, or Revision 01, dated March 26, 1998; or A310-52-2058, dated December 4, 1996, or Revision 01, dated March 26, 1998; are considered acceptable for compliance with the applicable actions specified in this amendment.

Note 5: Inspections and corrective action accomplished prior to the effective date of this AD in accordance with Airbus A320 Maintenance Planning Document, task number 521000-13-1, are considered acceptable for compliance with paragraphs (b) and (c) of this AD.

Terminating Action

(d) Within 36 months after the effective date of this AD: Modify the striker mechanism of the emergency and passenger door actuators (includes replacement of the existing copper diaphragm in the striker mechanism with an aluminum diaphragm and re-identification of the actuators) in accordance with Airbus Service Bulletin A300-52-0173, Revision 01, dated September 7, 2000 (for Model A300 B2 and B4 series airplanes); A300-52-6061, Revision 01, dated September 7, 2000 (for Model A300-600 series airplanes); A310-52-2065, Revision 01, dated September 7, 2000 (for Model A310 series airplanes); A330-52-3048, Revision 01, dated December 2, 1998 (for Model A330 series airplanes); A340-52-4059, Revision 01, dated December 2, 1998 (for Model A340 series airplanes); or A320-52-1094, Revision 02, dated April 7, 1999 (for Model A319, A320, and A321 series airplanes); as applicable.

Spares

(e) As of the effective date of this AD, no person shall install a passenger door or emergency door actuator on any airplane without first inspecting that actuator in accordance with paragraph (b) of this AD; and repairing, if necessary, in accordance with paragraph (c) of this AD.

Alternative Methods of Compliance

(f) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 6: Information concerning the existence of approved alternative methods of compliance with this AD, if any, may be obtained from the Manager, International Branch, ANM-116.

Special Flight Permits

(g) Special flight permits may be issued in accordance with sections 21.197 and 21.199 of the Federal Aviation Regulations (14 CFR 21.197 and 21.199) to operate the airplane to a location where the requirements of this AD can be accomplished.

Note 7: The subject of this AD is addressed in French airworthiness directives 1998-482-122(B) R1, dated April 21, 1999; 1999-410-294(B) R1, dated November 17, 1999; and 98-507-085(B) and 98-508-106(B), both dated December 16, 1998.

Issued in Renton, Washington, on May 10, 2002.
Ali Bahrami,
Acting Manager, Transport Airplane Directorate, Aircraft Certification Service.

[FR Doc. 02-12322 Filed 5-16-02; 8:45 am]

BILLING CODE 4910-13-P